DEPARTMENT OF VETERANS AFFAIRS

[OMB Control No. 2900-0695]

Agency Information Collection Activity Under OMB Review: Application for Reimbursement of Licensing or Certification Test Fees

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0695.

FOR FURTHER INFORMATION CONTACT: Maribel Aponte, Office of Enterprise and Integration, Data Governance Analytics (008), 1717 H Street NW, Washington, DC 20006, (202) 266-4688 or email maribel.aponte@va.gov. Please refer to “OMB Control No. 2900-0695” in any correspondence.

SUPPLEMENTARY INFORMATION: Authority: 38 U.S.C. 5101(a), 3689, 3034(a), 3241(a), 3471 and 3513.

Title: Application for Reimbursement of Licensing or Certification Test Fees.

OMB Control Number: 2900-0695.

Type of Review: Revision of a currently approved collection.

Abstract: VA will use the information collection specific to licensing or certification test reimbursement to decide whether the claimant should be reimbursed the amount of the fee charged for taking a licensing or certification test and the amount.

An agency may not conduct or sponsor, and a person is not required to respond to a collection of information unless it displays a currently valid OMB control number. The Federal Register Notice with a 60-day comment period soliciting comments on this collection of information was published at 86 FR 205 on October 27, 2021, on page 59449.

Affected Public: Individuals or Households.

Estimated Annual Burden: 1,050 hours.

Estimated Average Burden Time per Respondent: 15 minutes.

Frequency of Response: Occasionally.

Estimated Number of Respondents: 4,202.

By direction of the Secretary.
Maribel Aponte,
VA PRA Clearance Officer, Office of Enterprise and Integration, Data Governance Analytics, Department of Veterans Affairs.

[FR Doc. 2022-00072 Filed 1-6-22; 8:45 am]

BILLING CODE 8320-01-P